DEPARTMENT OF COMMERCE

Bureau of Industry and Security

President's Export Council; Subcommittee on Export Administration; Notice of Open Meeting

The President's Export Council Subcommittee on Export Administration (PECSEA) will meet on June 4, 2013, 9:30 a.m. (pacific daylight time), at Boeing Defense, Space and Security, Space and Intelligence Systems, Building S24, Conference Center, 2020 East Imperial Highway, El Segundo, California 90245 and via video teleconferencing at the Herbert C. Hoover Building, Room 3884, 14th Street between Constitution and Pennsylvania Avenues NW., Washington, DC at 12:30 p.m. (eastern daylight time). The PECSEA provides advice on matters pertinent to those portions of the Export Administration Act, as amended, that deal with United States policies of encouraging trade with all countries with which the United States has diplomatic or trading relations and of controlling trade for national security and foreign policy reasons.

Agenda (Subject to Change)

Tuesday, June 4

Open Session

1. Welcome and remarks by Chairman and Vice Chair

2. Export Control Reform Update

3. Panel Discussions on Reform of Controls on Satellites

4. Presentation of Papers or Comments by the Public

5. Subcommittee Updates

The open session will be accessible via teleconference to 20 participants on a first come, first served basis. To join the conference, submit inquiries to Ms. Yvette Springer at Yvette.Springer@bis.doc.gov, no later than May 29, 2013.

A limited number of seats will be available for the public. Reservations are not accepted. If attending in person, please forward your name (to appear on badge), Title, Citizenship, Organization Name, Organization Address, Email, and Phone to Ms. Springer no later than May 29, 2013. Early arrival (30 minutes) is requested for entry into the facility. Name and citizenship will be verified at Boeing upon entry. Verification requires a driver's license or a passport.

To the extent time permits, members of the public may present oral statements to the PECSEA. Written statements may be submitted at any time before or after the meeting. However, to facilitate distribution of public presentation materials to PECSEA members, the PECSEA suggest that these materials or comments be forwarded before the meeting to Ms. Springer via email.

For more information, contact Yvette Springer on 202-482-2813.

Dated: May 15, 2013.
Kevin J. Wolf,
Assistant Secretary for Export Administration.

[FR Doc. 2013-12082 Filed 5-20-13; 8:45 am]

BILLING CODE 3510-JT-P